DEPARTMENT OF JUSTICE

Notice of Lodging of Consent Decree Under the Comprehensive Environmental Response, Compensation, and Liability Act

Under 28 CFR 50.7, notice is hereby given that on August 14, 2003, a proposed Consent Decree in United States v. City of Hastings, et al., Civil Action No. 8:03-cv-321, was lodged with the United States District Court for the District of Nebraska.

In this action the United States asserted claims under sections 106 and 107(a) of the Comprehensive Environmental Response, Compensation, and Liability Act (“CERCLA”), 42 U.S.C. 9606 and 9607(a), seeking an order requiring the Defendants to implement EPA's selected remedy for the South Landfill Subsite of the Hastings Groundwater Contamination Site, located in the City of Hastings, Nebraska, and requiring the Defendants to reimburse the United States for costs incurred and to be incurred in response to releases or threatened releases of hazardous substances at the Subsite. The United States asserted these claims against the City of Hastings, Dravo Corporation, Dutton-Lainson Company, and Concrete Industries, Inc. The South Landfill Subsite, a former municipal landfill, is approximately 56 acres in size and is located southeast of the central business district of Hastings, Waste oils, sludges, and other materials containing hazardous substances were disposed of at the Subsite, resulting in contamination of soils and ground water beneath and down gradient of the Subsite.

Under the terms of the proposed Consent Decree settling the claims asserted in the Complaint, the Defendants agreed to perform the remedial design and remedial action at the Subsite, pay $815,000 of EPA's past response costs, and all of the United states' future response costs. EPA's selected remedy for the Subsite consists of capping the landfill with an evapotranspiration cover, monitored natural attenuation of contaminated ground water emanating from beneath the landfill, and institutional controls. In return for the commitments by the Settling Defendants, the United States grants the Settling Defendants a covenant not to sue under Sections 106 and 107(a) of CERCLA, 42 U.S.C. 9606 and 9607(a), relating to the south Landfill Subsite.

The Department of Justice will receive for a period of thirty (30) days from the date of this publication comments relating to the Consent Decree. Comments should be addressed to the Assistant Attorney General, Environment and Natural Resources Division, P.O. Box 7611, U.S. Department of Justice, Washington, DC 20044-7611, and should refer to United States v. City of Hastings, et al., D.J. Ref. No. 90-11-2-1112/4.

The Consent Decree may be examined at the Office of the United States Attorney, 1620 Dodge Street, Suite 1400, Omaha, NE 68102-1506, and at U.S. EPA Region VII, 901 North Fifth Street, Kansas City, Kansas 66025. During the public comment period, the Consent Decree may also be examined on the following Department of Justice Web site, http://www.usdoj.gov/enrd/open.html. A copy of the Consent Decree may also be obtained by mail from the consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, Please enclose a check in the amount of $41.25 (25 cents per page reproduction cost) payable to the U.S. Treasury. If requesting a copy of the Consent Decree exclusive of Appendices, please enclose a check in the amount of $12.00 (25 cents per page reproduction cost) payable to the U.S. Treasury.

Catherine R. McCabe,
Deputy Section Chief, Environmental Enforcement Section, Environment and Natural Resources Division.

[FR Doc. 03-21924 Filed 8-26-03; 8:45 am]

BILLING CODE 4410-15-M